DEPARTMENT OF THE INTERIOR

National Park Service

Boston National Historical Park, Suffolk County, Massachusetts; Notice of Intent To Prepare an Environmental Assessment and Notice of Public Meetings

In accordance with the National Environmental Policy Act of 1969 (Pub. L. 91-109 section 102(c)), the National Park Service (NPS) is preparing an Environmental Assessment (EA) for the rehabilitation of Bunker Hill Monument, located in the City of Boston, Suffolk County, Massachusetts. The purpose of the EA is to assess the impacts of alternative rehabilitation strategies for the Bunker Hill Monument, the adjacent Bunker Hill Lodge, the surrounding site and the Bunker Hill Museum. The project will include preservation of the 221-foot high Bunker Hill Monument, the adjacent granite Lodge and surrounding 4-acre site, as well as the rehabilitation of the neighboring Bunker Hill Museum as a site interpretive facility in partnership with the local community and the City of Boston. The NPS will hold a series of public meetings in the spring and summer of 2001 that will provide an opportunity for public input into the scoping for the EA. The date, time, and location of these meetings will be announced through local media. The purpose of these meetings is to obtain both written and verbal comments concerning the rehabilitation of Bunker Hill. Those persons who wish to comment verbally or in writing should contact Ruth Raphael, Planner, Boston National Historical Park, Charlestown Navy Yard, Boston, MA 02129-4543.

Bunker Hill is the site of the first major battle of the American Revolution and is one of the most significant historic sites in Boston. The monument was built between 1825 and 1843 and is the oldest major monument in the United States. The site, a National Historic Landmark, with annual visitation of 196,000 is in need of major rehabilitation and enhanced interpretive facilities. The Bunker Hill Museum, a three story historic brick building, is located directly across the street from the site. The project will seek to develop the museum as a primary interpretive center to convey the drama and importance of the battle as well as a place, in partnership with the community, to showcase local Charlestown history.

The draft EA is expected to be completed and available for public review in Fall 2001.

Dated: May 29, 2001.
Terry Savage,
Superintendent, Boston National Historical Park.

[FR Doc. 01-15301 Filed 6-15-01; 8:45 am]

BILLING CODE 4310-70-P